DEPARTMENT OF AGRICULTURE

Animal and Plant Health Inspection Service

9 CFR Part 94

[Docket No. APHIS-2006-0074]

RIN 0579-AC36

Highly Pathogenic Avian Influenza; Technical Amendment

AGENCY: Animal and Plant Health Inspection Service, USDA.

ACTION: Final rule; technical amendment.

SUMMARY: In a final rule published in the Federal Register on December 1, 2014, and effective on that date, we adopted, with changes, an interim rule that amended the regulations concerning the importation of live birds and poultry (including hatching eggs) and bird and poultry products from regions where any subtype of highly pathogenic avian influenza (HPAI) is considered to exist. As part of this action, we intended to clarify that table eggs from regions considered to have HPAI may only be imported under APHIS permit for scientific, educational, or research purposes to approved establishments, and only if the Administrator has determined that the importation can be made under conditions that will prevent the introduction of HPAI into the United States. However, we did not add references to HPAI to one of the table egg provisions of the final rule as we intended. This document corrects that oversight.

DATES: Effective February 27, 2015.

FOR FURTHER INFORMATION CONTACT: Mr. Javier Vargas, Case Manager, National Import Export Services, Animal Health Policy and Programs, VS, APHIS, 4700 River Road Unit 38, Riverdale, MD 20737; (301) 851-3300.

SUPPLEMENTARY INFORMATION: In a final rule ¹ that was published in the Federal Register on December 1, 2014 (79 FR 70997-71007, Docket No. APHIS-2006-0074), and effective on that date, we adopted, with changes, an interim rule that amended the regulations concerning the importation of live birds and poultry (including hatching eggs) and bird and poultry products from regions where any subtype of highly pathogenic avian influenza (HPAI) is considered to exist. As part of this action, we intended to amend the regulations in § 94.6(c)(4) to clarify that table eggs from regions considered to have HPAI that do not meet the requirements of § 94.6(c)(1) through § 94.6(c)(3) may only be imported if the Administrator has determined that the importation can be made under conditions that will prevent the introduction of HPAI into the United States. However, we did not add references to HPAI in § 94.6(c)(4) of the table egg provisions of the final rule as we intended. We are amending the regulations to correct that oversight.

¹ To view the rule, supporting analyses, and comments we received, go to http://www.regulations.gov/#!docketDetail;D=APHIS-2006-0074.

We also wish to clarify a statement we made in the preamble to the final rule regarding the requirements for importing table eggs from HPAI regions. We incorrectly stated that table eggs moved to approved establishments for breaking and pasteurization require an APHIS permit. Such eggs do not require an APHIS permit for importation and, as indicated in § 94.6(c)(2), may be moved from the port of arrival in the United States, under seal of the United States Department of Agriculture, to an approved establishment for breaking and pasteurization.

List of Subjects in 9 CFR Part 94

Animal diseases, Imports, Livestock, Meat and meat products, Milk, Poultry and poultry products, Reporting and recordkeeping requirements.

Accordingly, 9 CFR part 94 is amended as follows:

PART 94—RINDERPEST, FOOT-AND-MOUTH DISEASE, NEWCASTLE DISEASE, HIGHLY PATHOGENIC AVIAN INFLUENZA, AFRICAN SWINE FEVER, CLASSICAL SWINE FEVER, SWINE VESICULAR DISEASE, AND BOVINE SPONGIFORM ENCEPHALOPATHY: PROHIBITED AND RESTRICTED IMPORTATIONS.

1. The authority citation for part 94 continues to read as follows:

Authority: 7 U.S.C. 450, 7701-7772, 7781-7786, and 8301-8317; 21 U.S.C. 136 and 136a; 31 U.S.C. 9701; 7 CFR 2.22, 2.80, and 371.4.

§ 94.6 [Amended]

2. In § 94.6, paragraph (c)(4) is amended by adding the words “and HPAI” after the words “Newcastle disease” each time they occur.

Done in Washington, DC, this 23rd day of February 2015.
Kevin Shea,
Administrator, Animal and Plant Health Inspection Service.

[FR Doc. 2015-04147 Filed 2-26-15; 8:45 am]

BILLING CODE 3410-34-P